DEPARTMENT OF AGRICULTURE

Agricultural Marketing Service

[Docket No. FV-04-301]

United States Standards for Grades of Greenhouse Tomatoes

AGENCY: Agricultural Marketing Service, USDA.

ACTION: Reopening and extension of the comment period.

SUMMARY: Notice is hereby given that the comment period on possible changes to the United States Standards for Greenhouse Tomatoes is reopened and extended.

DATES: Comments must be received by March 31, 2004.

ADDRESSES: Interested persons are invited to submit written comments to the Standardization Section, Fresh Products Branch, Fruit and Vegetable Programs, Agricultural Marketing Service, U.S. Department of Agriculture, 1400 Independence Ave. SW., Room 1661 South Building, Stop 0240, Washington, DC 20250-0240; fax (202) 720-8871; E-mail FPB.DocketClerk@usda.gov., or you may also send your comments by the electronic process available at Federal eRulemaking portal at http://www.regulations.gov. Comments should make reference to the dates and page number of this issue of the Federal Register and will be made available for public inspection in the above office during regular business hours.

FOR FURTHER INFORMATION CONTACT: David L. Priester, at the above address or call (202) 720-2185; E-mail David.Priester@usda.gov.

SUPPLEMENTARY INFORMATION: A notice was published in the Federal Register, December 10, 2003, (Vol. 68, No. 237, Pages 68859-68860) requesting comments on the possible revisions of the United States Standards for Grades of Greenhouse Tomatoes. The possible revisions include: amending the method for determining percentages from a weight to count basis, and changing the size classifications from ounces to diameter. Additionally, the Agricultural Marketing Service (AMS) is seeking comments regarding any other revisions that may be necessary to better serve the industry. The comment period ended February 9, 2004.

A comment was received from an industry association representing fresh tomato production in North America, requesting additional time to consider possible revisions. The association requested the comment period be extended to allow the association an opportunity to meet with their members to discuss possible revisions.

After reviewing the request, AMS is reopening and extending the comment period in order to allow sufficient time for interested persons, including the association, to file comments.

Authority: 7 U.S.C. 1621-1627.

Dated: March 12, 2004.
A.J. Yates,
Administrator, Agricultural Marketing Service.

[FR Doc. 04-5990 Filed 3-15-04; 8:45 am]

BILLING CODE 3410-02-M